DEPARTMENT OF JUSTICE

Office of Community Oriented Policing Services; Agency Information Collection Activities: Proposed Collection; Comments Requested

ACTION: 30-Day notice of information collection under review: Extension of a currently approved collection Making Officer Redeployment Effective (MORE) Grant Progress Report.

The Department of Justice (DOJ), Office of Community Oriented Policing Services (COPS) has submitted the following information collection request to the Office of Management and Budget (OMB) for review and approval in accordance with the paperwork Reduction Act of 1995. The proposed information collection is published to obtain comments from the public and affected agencies. This proposed information collection was previously published in the Federal Register Volume 68, Number 63, page 16087 on April 2, 2003, allowing for a 60 day comment period.

The purpose of this notice is to allow for an additional 30 days for public comment until June 26, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503, or facsimile (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Making Officer Redeployment Effective (MORE) Grant Progress Report.

(3) Agency form number, if any, and the applicable component of the Department of Justice sponsoring the collection: COPS. Form number: Not applicable.

(4) Affected public who will be asked or required to respond, as well as a brief abstract: Primary: MORE 2001 award recipients. Other: None. The currently approved collection instrument targeted MORE aware recipients to gather data on equipment purchased and/or civilians hired under the MORE ’98 program. The questions used to gather data on the equipment purchases will be used by the COPS Office to track summary data on the equipment purchased with COPS funding and to monitor the progress of the MORE '01 award recipients in implementing their grant. The questions used to gather data on civilians will be deleted.

(5) An estimate of the total number of respondents and the amount of time estimated for an average respondent to respond: This collection will be sent to 541 respondents. The estimated amount of time required for the average respondent to respond is 1.5 hours.

(6) An estimate of the additional public burden (in hours) associated with the collection: The total estimated burden on the public is 1,082 hours annually.

If additional information is required contact: Mrs. Brenda E. Dyer, Deputy Clearance Officer, United States Department of Justice, Information Management and Security Staff, Justice Management Division, Suite 1600, Patrick Henry Building, 601 D Street NW., Washington, DC 20530.

Dated: May 21, 2003.
Brenda E. Dyer,
Department Deputy Clearance Officer, United States Department of Justice.

[FR Doc. 03-13139 Filed 5-23-03; 8:45 am]

BILLING CODE 4410-AT-M